DEPARTMENT OF DEFENSE

Office of the Secretary

Submission for OMB Review; Comment Request

ACTION: Notice.

The Department of Defense has submitted to OMB for clearance, the following proposal for collection of information under the provisions of the Paperwork Reduction Act (44 U.S.C. Chapter 35).

DATES: Consideration will be given to all comments received by June 19, 2002.

Title, Form, and OMB Number: Customer Service Survey—Regulatory Program U.S. Army Corps of Engineers; ENG For 5065; OMB Number 0710-0012.

Type of Request: Reinstatement.

Number of Respondents: 60,000.

Responses per Respondent: 1.

Annual Responses: 60,000.

Average Burden per Response: 15 minutes.

Annual Burden Hours: 15,000.

Needs and Uses: Survey of applicants who are required to obtain permits from the U.S. Army Corps of Engineers to build on or conduct dredge and fill operations in United States waters. Opinions on the quality of service are used to make program improvements. The Corps will conduct surveys of customers at our districts, division, and headquarters offices, currently a total of 49 offices. Most customer responses are solicited from the 38 districts. These elements will tabulate their survey results and send copies to headquarters for a Corps wide tabulation. The survey form will be provided to the public when they receive a regulatory product, primarily a permit decision or wetland determination.

Affected Public: Individuals or Households; Business or Other For-Profit; Not-for-Profit Institutions; Farms; State, Local of Tribal Government.

Frequency: On Occasion.

Respondent's Obligation: Required to Obtain or Retain Benefits.

OMB Desk Officer: Mr. Jim Laity.

Written comments and recommendations on the proposed information collection should be sent to Mr. Laity at the Office of Management and Budget, Desk Officer for the U.S. Army Corps of Engineers, Room 10202, New Executive Office Building, Washington, DC 20503.

DOD Clearance Officer: Mr. Robert Cushing.

Written requests for copies of the information collection proposal should be sent to Mr. Cushing, WHS/DIOR, 1215 Jefferson Davis Highway, Suite 1204, Arlington, VA 22202-4302.

Dated: May 10, 2002.
Patricia L. Toppings,
Alternate SOD Federal Register, Liaison Officer, Department of Defense.

[FR Doc. 02-12499 Filed 5-17-02; 8:45 am]

BILLING CODE 5001-08-M